FEDERAL ACCOUNTING STANDARDS ADVISORY BOARD

Notice of Federal Accounting Standards Advisory Board Member Appointment

AGENCY: Federal Accounting Standards Advisory Board.

ACTION: Notice.

Board Action: Pursuant to 31 U.S.C. 3511(d), the Federal Advisory Committee Act (Pub. L. 92-463), as amended, and the FASAB Rules Of Procedure, as amended in October 2010, notice is hereby given that Mr. Patrick McNamee has been appointed to serve a five-year term as a member of the Federal Accounting Standards Advisory Board (FASAB) beginning January 1, 2017. The news release is available on the FASAB Web site at http://files.fasab.gov/pdffiles/new_member_mcnamee_nr_2016.pdf. Copies can be obtained by contacting FASAB at (202) 512-7350.

FOR FURTHER INFORMATION CONTACT: Ms. Wendy M. Payne, Executive Director, 441 G Street NW., Mail Stop 6H19, Washington, DC 20548, or call (202) 512-7350.

Authority: Federal Advisory Committee Act, Pub. L. 92-463.

Dated: October 21, 2016.
Wendy M. Payne,
Executive Director.

[FR Doc. 2016-26048 Filed 10-27-16; 8:45 am]

BILLING CODE 1610-02-P